DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed revised collection of the data contained on the Welfare to Work Formula (ETA 9068) and Competitive (ETA 9068-1) Cumulative Quarterly Status Reports.

A copy of the proposed information collection request (ICR) can be obtained by contacting the office listed below in the addresses section of this notice.

DATES: Written comments must be submitted to the office listed in the addresses section below on or before October 23, 2000.

ADDRESSES: Isabel Danley, Division of Financial Grants Management Policy and Review, Office of Grants and Contract Management, United States Department of Labor, Employment and Training Administration, 200 Constitution Ave. NW., Rm. N-4720, Washington, DC 20210, (202-219-5731 x115—not a toll free number) and, Internet address; IDanley@DOLETA.GOV and/or FAX: (202-208-1551).

SUPPLEMENTARY INFORMATION:

I. Background

Pursuant to Title IV, Part A of the Social Security Act, as amended by the enactment of the Balanced Budget Act of 1997, the Welfare to Work program was designed to assist States in providing transitional employment assistance to move hard-to-employ recipients of Temporary Assistance for Needy Families, with significant job placement and job retention barriers, into unsubsidized jobs. On Tuesday, November 18, 1997, the Department of Labor, Employment and Training Administration issued an Interim Final Rule, 20 CFR Part 645, implementing the grant provisions of the Social Security Act Amendments. The reporting requirements set forth at 20 CFR 645.240 directed the Department to issue detailed reporting instructions. In accordance with the Paperwork Reduction Act of 1995, the reporting formats (ETA 9068 and 9068-1) and corresponding instructions were submitted to the Office of Management and Budget for review, clearance, and subsequent approval.

Passage of the TITLE VIIID WELFARE-TO-WORK AND CHILD SUPPORT AMENDMENTS OF 1999, Section 804. SIMPLIFICATION AND COORDINATION OF REPORTING REQUIREMENTS, necessitated revisions to currently approved reporting requirements, including the provision for collection of participant information. Upon approval by OMB, the revised reporting formats will be provided electronically to the States and competitive grant recipients, replacing the formats in place at the present time. The currently assigned Passwords and Personal Identification Numbers will continue to be used in accessing the formats and for data certification.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The revised collection of information must be approved so that DOL can effectively manage and evaluate the WtW program in compliance with the requirements set forth in the Social Security Act Amendments, as further amended by the TITLE VIII WELFARE-TO-WORK AND CHILD SUPPORT AMENDMENTS OF 1999.

Type of Review: Revision of a currently approved collection.

Agency: Employment and Training Administration.

Title: Welfare to Work Formula (ETA 9068) and Competitive (ETA 9068-1) Cumulative Quarterly Status Reports.

OMB Number: 1205-0385.

Agency Numbers: ETA 9068 and ETA 9068-1.

Frequency: Quarterly.

Affected Public: (1) WtW Formula Grants: States, local governments, and Private Industry Councils; and, (2) WtW Competitive Grants: Eligible applicants from business and/or other for profit and non-profit institutions.

Reporting Burden: See the following Reporting Burden Tables for WtW Formula Grants (Revised ETA 9068) and WtW Competitive Grants (Revised ETA 9068-1).

DOL-ETA Reporting Burden for WtW Formula and Tribal Grants Financial and Participant Data Collection
[Revised ETA 9068]
Requirements | FY 1998 | FY 1999 | FY 2000 | FY 2001
Number of Reports Per Entity Per Quarter | 1 | 2 | 2 | 1
Total Number of Reports Per Entity Per Year | 2 | 8 | 8 | 4
Number of Hours Required for Reporting Hours Per Quarter Per Report | 1 | 1 | 2 | 2
Total Number of Hours Required for Reporting Hours Per Entity Per Year | 2 | 8 | 16 | 8
Number of Entities Reporting | 55 | 55 | 55 | 55
Total Number of Hours Required for Reporting Burden Per Year | 110 | 440 | 880 | 440
Total Burden Cost @ $23.45 per hour | $2,580 | $10,318 | $20,636 | $10,318

Note: (1) The number of reports per entity per year is impacted by the 3 year life of both FY 1998 and FY 1999 funds.

(2) In FY 1998, reporting was not effective until the second half of the FY.

(3) In FY 2000 and FY 2001, the number of hours required per quarter per report is increased based upon the additional participant reporting requirements.

(4) The burden cost is estimated based on a GS 12/01 position.

DOL-ETA Reporting Burden for WtW Competitive Grants Financial and Participant Data Collection
[Revised ETA 9068-1]
Requirements | FY 1998 | FY 1999 | FY 2000
Number of Reports Per Entity Per Quarter | 1 | 1 | 1
Total Number of Reports Per Entity Per Year | 2 | 4 | 4
Number of Hours Required for Reporting Per Quarter Per Report | 1.5 | 1.5 | 2.5
Total Number of Hours Required for Reporting (Hours Per Entity Per Year) | 3 | 6 | 10
Estimated Number of Entities Reporting | 126 | 191 | 65
Total Number of Hours Required for Reporting Burden Per Year | 378 | 1146 | 650
Total Burden Cost @ $23.45 per hour | $8,864 | $26,873 | $15,242

Note: (1) Competitive grants have a 2 year life. FY 1998 grants must be reported in FY 1998 (2 quarters) and in FY 1999. FY 1999 grants must be reported in FY 1999 and FY 2000.

(2) Approximately 126 entities reported in FY 1998 (continuing to be reported in FY 1999; with an additional 65 entities reporting in FY 1999 (which will continue to report in FY 2000).

(3) The number of hours required per report increased in FY 2000, due to the additional participant reporting requirements.

(4) The burden cost is based upon the salary of a GS 12/01.

Comments submitted in response to this comment request will be summarized and/or included in the request for Office of Management and Budget approval of the information collection request; they will also become a matter of public record.

Dated: August 16, 2000.
Dennis Lieberman,
Director, Office of Welfare to Work.

[FR Doc. 00-21327 Filed 8-21-00; 8:45 am]

BILLING CODE 4510-30-M